DEPARTMENT OF HOMELAND SECURITY

Federal Emergency Management Agency

44 CFR Part 64

[Docket ID FEMA-2015-0001; Internal Agency Docket No. FEMA-8409]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Patricia Suber, Federal Insurance and Mitigation Administration, Federal Emergency Management Agency, 500 C Street SW., Washington, DC 20472, (202) 646-4149.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Carroll, Township of, York County | 422216 | September 16, 1974, Emerg; March 2, 1981, Reg; December 16, 2015, Susp | Dec. 16, 2015 | Dec. 16, 2015.
Chanceford, Township of, York County | 422217 | January 13, 1976, Emerg; October 15, 1981, Reg; December 16, 2015, Susp | ......do | Do.
Codorus, Township of, York County | 421142 | March 26, 1974, Emerg; July 5, 1983, Reg; December 16, 2015, Susp | ......do | Do.
Conewago, Township of, York County | 420918 | July 5, 1973, Emerg; March 18, 1980, Reg; December 16, 2015, Susp | ......do | Do.
Cross Roads, Borough of, York County | 422209 | July 12, 1976, Emerg; June 1, 1979, Reg; December 16, 2015, Susp | ......do | Do.
Delta, Borough of, York County | 422211 | January 20, 1976, Emerg; September 1, 1983, Reg; December 16, 2015, Susp | ......do | Do.
Dillsburg, Borough of, York County | 420919 | September 16, 1975, Emerg; September 28, 1979, Reg; December 16, 2015, Susp | ......do | Do.
Dover, Borough of, York County | 422569 | December 8, 1975, Emerg; December 19, 1980, Reg; December 16, 2015, Susp | ......do | Do.
Dover, Township of, York County | 420920 | March 9, 1973, Emerg; March 2, 1981, Reg; December 16, 2015, Susp | ......do | Do.
East Hopewell, Township of, York County | 422218 | April 16, 1981, Emerg; April 16, 1981, Reg; December 16, 2015, Susp | ......do | Do.
East Manchester, Township of, York County | 420921 | June 6, 1973, Emerg; November 19, 1980, Reg; December 16, 2015, Susp | ......do | Do.
Fairview, Township of, York County | 420923 | September 8, 1972, Emerg; February 15, 1978, Reg; December 16, 2015, Susp | ......do | Do.
Fawn, Township of, York County | 422219 | March 19, 1976, Emerg; April 1, 1981, Reg; December 16, 2015, Susp | ......do | Do.
Felton, Borough of, York County | 420922 | December 17, 1973, Emerg; April 1, 1981, Reg; December 16, 2015, Susp | ......do | Do.
Franklin, Township of, York County | 422220 | July 31, 1975, Emerg; January 19, 1983, Reg; December 16, 2015, Susp | ......do | Do.
Glen Rock, Borough of, York County | 420924 | March 16, 1973, Emerg; July 16, 1981, Reg; December 16, 2015, Susp | ......do | Do.
Goldsboro, Borough of, York County | 420925 | June 6, 1973, Emerg; February 15, 1980, Reg; December 16, 2015, Susp | ......do | Do.
Hallam, Borough of, York County | 420926 | August 7, 1973, Emerg; February 15, 1980, Reg; December 16, 2015, Susp | ......do | Do.
Hanover, Borough of, York County | 422212 | July 2, 1974, Emerg; January 6, 1982, Reg; December 16, 2015, Susp | ......do | Do.
Heidelberg, Township of, York County | 422221 | February 18, 1976, Emerg; September 30, 1981, Reg; December 16, 2015, Susp | ......do | Do.
Hellam, Township of, York County | 420927 | June 27, 1973, Emerg; March 18, 1980, Reg; December 16, 2015, Susp | ......do | Do.
Hopewell, Township of, York County | 422222 | April 21, 1975, Emerg; September 16, 1981, Reg; December 16, 2015, Susp | ......do | Do.
Jackson, Township of, York County | 422223 | March 10, 1976, Emerg; September 30, 1981, Reg; December 16, 2015, Susp | ......do | Do.
Jacobus, Borough of, York County | 420928 | August 13, 1975, Emerg; June 30, 1976, Reg; December 16, 2015, Susp | ......do | Do.
Lewisberry, Borough of, York County | 420929 | January 27, 1976, Emerg; November 17, 1982, Reg; December 16, 2015, Susp | ......do | Do.
Lower Chanceford, Township of, York County | 420930 | June 6, 1973, Emerg; February 15, 1980, Reg; December 16, 2015, Susp | ......do | Do.
Lower Windsor, Township of, York County | 421187 | August 29, 1975, Emerg; March 2, 1983, Reg; December 16, 2015, Susp | ......do | Do.
Manchester, Borough of, York County | 422747 | N/A, Emerg; September 25, 2010, Reg; December 16, 2015, Susp | ......do | Do.
Manchester, Township of, York County | 420931 | January 26, 1973, Emerg; December 1, 1981, Reg; December 16, 2015, Susp | ......do | Do.
Manheim, Township of, York County | 422224 | April 21, 1975, Emerg; April 4, 1983, Reg; December 16, 2015, Susp | ......do | Do.
Monaghan, Township of, York County | 422225 | June 10, 1975, Emerg; August 15, 1980, Reg; December 16, 2015, Susp | ......do | Do.
Mount Wolf, Borough of, York County | 421021 | August 20, 1973, Emerg; May 15, 1980, Reg; December 16, 2015, Susp | ......do | Do.
New Salem, Borough of, York County | 422743 | N/A, Emerg; September 25, 2009, Reg; December 16, 2015, Susp | ......do | Do.
Newberry, Township of, York County | 422226 | July 19, 1974, Emerg; July 2, 1980, Reg; December 16, 2015, Susp | ......do | Do.
North Codorus, Township of, York County | 422227 | August 6, 1975, Emerg; October 15, 1981, Reg; December 16, 2015, Susp | ......do | Do.
North Hopewell, Township of, York County | 422228 | September 25, 1975, Emerg; April 1, 1981, Reg; December 16, 2015, Susp | ......do | Do.
North York, Borough of, York County | 420933 | March 16, 1973, Emerg; May 2, 1977, Reg; December 16, 2015, Susp | ......do | Do.
Paradise, Township of, York County | 420934 | June 6, 1973, Emerg; September 2, 1981, Reg; December 16, 2015, Susp | ......do | Do.
Peach Bottom, Township of, York County | 422229 | January 16, 1975, Emerg; September 30, 1981, Reg; December 16, 2015, Susp | ......do | Do.
Penn, Township of, York County | 421025 | January 16, 1974, Emerg; October 15, 1981, Reg; December 16, 2015, Susp | ......do | Do.
Railroad, Borough of, York County | 420935 | May 1, 1975, Emerg; September 28, 1979, Reg; December 16, 2015, Susp | ......do | Do.
Seven Valleys, Borough of, York County | 420936 | December 13, 1974, Emerg; September 28, 1979, Reg; December 16, 2015, Susp | ......do | Do.
Shrewsbury, Township of, York County | 422230 | April 1, 1976, Emerg; September 16, 1981, Reg; December 16, 2015, Susp | ......do | Do.
Spring Garden, Township of, York County | 420937 | August 27, 1973, Emerg; June 15, 1977, Reg; December 16, 2015, Susp | ......do | Do.
Spring Grove, Borough of, York County | 420938 | April 17, 1975, Emerg; August 15, 1983, Reg; December 16, 2015, Susp | ......do | Do.
Springettsbury, Township of, York County | 421031 | November 2, 1973, Emerg; December 15, 1977, Reg; December 16, 2015, Susp | ......do | Do.
Springfield, Township of, York County | 422231 | November 13, 1975, Emerg; April 1, 1981, Reg; December 16, 2015, Susp | ......do | Do.
Warrington, Township of, York County | 422232 | May 31, 1979, Emerg; March 16, 1983, Reg; December 16, 2015, Susp | ......do | Do.
Washington, Township of, York County | 421150 | April 4, 1974, Emerg; March 2, 1983, Reg; December 16, 2015, Susp | ......do | Do.
Wellsville, Borough of, York County | 420940 | July 31, 1979, Emerg; December 31, 1982, Reg; December 16, 2015, Susp | ......do | Do.
West Manchester, Township of, York County | 422233 | August 22, 1974, Emerg; June 15, 1981, Reg; December 16, 2015, Susp | ......do | Do.
West Manheim, Township of, York County | 422234 | March 9, 1976, Emerg; March 16, 1983, Reg; December 16, 2015, Susp | ......do | Do.
Windsor, Borough of, York County | 420942 | May 27, 1975, Emerg; November 3, 1982, Reg; December 16, 2015, Susp | ......do | Do.
Windsor, Township of, York County | 422235 | September 6, 1974, Emerg; June 1, 1983, Reg; December 16, 2015, Susp | ......do | Do.
Wrightsville, Borough of, York County | 420943 | June 6, 1973, Emerg; December 18, 1979, Reg; December 16, 2015, Susp | ......do | Do.
Yoe, Borough of, York County | 420944 | July 29, 1975, Emerg; December 1, 1982, Reg; December 16, 2015, Susp | ......do | Do.
York, City of, York County | 420945 | October 6, 1972, Emerg; June 15, 1977, Reg; December 16, 2015, Susp | ......do | Do.
York, Township of, York County | 421032 | August 1, 1973, Emerg; May 17, 1989, Reg; December 16, 2015, Susp | ......do | Do.
York Haven, Borough of, York County | 420946 | April 13, 1978, Emerg; December 18, 1979, Reg; December 16, 2015, Susp | ......do | Do.
Virginia:
James City County, Unincorporated Areas | 510201 | October 20, 1975, Emerg; February 6, 1991, Reg; December 16, 2015, Susp | ......do | Do.
Williamsburg, City of, Independent City | 510294 | October 29, 1975, Emerg; November 20, 1981, Reg; December 16, 2015, Susp | ......do | Do.
Region V
Indiana:
Mishawaka, City of, Saint Joseph County | 180227 | February 24, 1975, Emerg; August 17, 1981, Reg; December 16, 2015, Susp | ......do | Do.
Osceola, Town of, Saint Joseph County | 180229 | N/A, Emerg; December 14, 1992, Reg; December 16, 2015, Susp | ......do | Do.
Saint Joseph County, Unincorporated Areas | 180224 | October 22, 1971, Emerg; August 15, 1978, Reg; December 16, 2015, Susp | ......do | Do.
Minnesota:
Andover, City of, Anoka County | 270689 | June 23, 1976, Emerg; September 30, 1980, Reg; December 16, 2015, Susp | ......do | Do.
Anoka, City of, Anoka County | 275227 | February 11, 1972, Emerg; November 30, 1973, Reg; December 16, 2015, Susp | ......do | Do.
Anoka County, Unincorporated Areas | 270005 | March 19, 1974, Emerg; January 16, 1980, Reg; December 16, 2015, Susp | ......do | Do.
Blaine, City of, Anoka and Ramsey Counties | 270007 | June 11, 1974, Emerg; November 15, 1979, Reg; December 16, 2015, Susp | ......do | Do.
Centerville, City of, Anoka County | 270008 | March 6, 1975, Emerg; December 4, 1979, Reg; December 16, 2015, Susp | ......do | Do.
Circle Pines, City of, Anoka County | 270009 | April 15, 1974, Emerg; September 15, 1978, Reg; December 16, 2015, Susp | ......do | Do.
Columbia Heights, City of, Anoka County | 270010 | May 28, 1974, Emerg; September 29, 1978, Reg; December 16, 2015, Susp | ......do | Do.
Columbus, City of, Anoka County | 270144 | N/A, Emerg; February 6, 2009, Reg; December 16, 2015, Susp | ......do | Do.
Coon Rapids, City of, Anoka County | 270011 | October 20, 1972, Emerg; March 15, 1977, Reg; December 16, 2015, Susp | ......do | Do.
East Bethel, City of, Anoka County | 270012 | August 16, 1974, Emerg; May 15, 1980, Reg; December 16, 2015, Susp | ......do | Do.
Fridley, City of, Anoka County | 270013 | January 21, 1974, Emerg; March 2, 1981, Reg; December 16, 2015, Susp | ......do | Do.
Ham Lake, City of, Anoka County | 270674 | October 24, 1975, Emerg; July 16, 1980, Reg; December 16, 2015, Susp | ......do | Do.
Lino Lakes, City of, Anoka County | 270015 | April 30, 1976, Emerg; May 17, 1982, Reg; December 16, 2015, Susp | ......do | Do.
Nowthen, City of, Anoka County | 270908 | N/A, Emerg; April 26, 2012, Reg; December 16, 2015, Susp | ......do | Do.
Oak Grove, City of, Anoka County | 270031 | N/A, Emerg; September 5, 2008, Reg; December 16, 2015, Susp | ......do | Do.
Ramsey, City of, Anoka County | 270681 | July 8, 1975, Emerg; November 1, 1979, Reg; December 16, 2015, Susp | ......do | Do.
Spring Lake Park, City of, Anoka and Ramsey Counties | 270016 | August 12, 1975, Emerg; August 24, 1981, Reg; December 16, 2015, Susp | ......do | Do.
Saint Francis, City of, Anoka County | 270017 | September 29, 1975, Emerg; March 2, 1981, Reg; December 16, 2015, Susp | ......do | Do.
Wisconsin:
Avoca, Village of, Iowa County | 550173 | June 26, 1974, Emerg; September 19, 1984, Reg; December 16, 2015, Susp | ......do | Do.
Blanchardville, Village of, Iowa and Lafayette Counties | 550227 | June 16, 1975, Emerg; August 15, 1979, Reg; December 16, 2015, Susp | ......do | Do.
Cobb, Village of, Iowa County | 550176 | August 25, 1975, Emerg; January 5, 1979, Reg; December 16, 2015, Susp | ......do | Do.
Dodgeville, City of, Iowa County | 550177 | June 23, 1975, Emerg; July 2, 1987, Reg; December 16, 2015, Susp | ......do | Do.
Hollandale, Village of, Iowa County | 550178 | September 16, 1975, Emerg; September 1, 1986, Reg; December 16, 2015, Susp | ......do | Do.
Iowa County, Unincorporated Areas | 550522 | January 30, 1974, Emerg; January 17, 1979, Reg; December 16, 2015, Susp | ......do | Do.
Linden, Village of, Iowa County | 550179 | April 15, 1975, Emerg; January 5, 1979, Reg; December 16, 2015, Susp | ......do | Do.
Mineral Point, City of, Iowa County | 550180 | July 25, 1975, Emerg; July 16, 1987, Reg; December 16, 2015, Susp | ......do | Do.
Muscoda, Village of, Iowa and Grant Counties | 550153 | October 25, 1974, Emerg; September 8, 1999, Reg; December 16, 2015, Susp | ......do | Do.
Ridgeway, Village of, Iowa County | 550181 | October 24, 1975, Emerg; January 5, 1979, Reg; December 16, 2015, Susp | ......do | Do.
Region X
Alaska:
Cordova, City of, Valdez-Cordova Census Area | 020037 | July 31, 1975, Emerg; April 2, 1979, Reg; December 16, 2015, Susp | ......do | Do.
Washington:
Castle Rock, City of, Cowlitz County | 530277 | May 8, 1975, Emerg; June 18, 1980, Reg; December 16, 2015, Susp | ......do | Do.
Cowlitz County, Unincorporated Areas | 530032 | June 18, 1971, Emerg; August 1, 1980, Reg; December 16, 2015, Susp | ......do | Do.
Kalama, City of, Cowlitz County | 530289 | July 7, 1980, Emerg; June 1, 1981, Reg; December 16, 2015, Susp | ......do | Do.
Kelso, City of, Cowlitz County | 530033 | July 28, 1972, Emerg; December 4, 1979, Reg; December 16, 2015, Susp | ......do | Do.
Longview, City of, Cowlitz County | 530034 | May 26, 1972, Emerg; December 18, 1979, Reg; December 16, 2015, Susp | ......do | Do.
Woodland, City of, Clark and Cowlitz Counties | 530035 | June 23, 1972, Emerg; February 1, 1978, Reg; December 16, 2015, Susp | ......do | Do.
* do = Ditto.
Code for reading third column: Emerg.—Emergency; Reg.—Regular; Susp—Suspension.

Dated: November 3, 2015.
Roy E. Wright,
Deputy Associate Administrator, Federal Insurance and Mitigation Administration, Department of Homeland Security, Federal Emergency Management Agency.

[FR Doc. 2015-30043 Filed 11-24-15; 8:45 am]

BILLING CODE 9110-12-P